DEPARTMENT OF TRANSPORTATION

Federal Aviation Administration

Philadelphia International Airport, Capacity Enhancement Program, Environmental Impact Statement, Record of Decision

AGENCY: Federal Aviation Administration (FAA) DOT.

ACTION: Notice of availability of record of decision (ROD).

SUMMARY: The FAA has issued a ROD for the Philadelphia International Airport (PHL), Capacity Enhancement Program (CEP), Environmental Impact Statement (EIS). The City of Philadelphia, the airport sponsor, owns and operates PHL and had requested FAA consider ways to accommodate existing and forecasted aviation demands. The purpose of the CEP is to enhance airport capacity in order to accommodate current and future aviation demand in the Philadelphia Metropolitan Area during all weather conditions. This ROD sets forth FAA's final determination and environmental approvals for the federal actions necessary to implement the CEP at the airport.

DATES: Effective upon publication in the Federal Register.

FOR FURTHER INFORMATION CONTACT: Susan L. McDonald, Environmental Protection Specialist, Federal Aviation Administration, Harrisburg Airports District Office, 3905 Hartzdale Drive, Suite 508, Harrisburg, PA 17011.

SUPPLEMENTARY INFORMATION: In accordance with the National Environmental Policy Act, the FAA has completed a Record of Decision for the Environmental Impact Statement for the Philadelphia International Airport Capacity Enhancement Program. The ROD sets forth FAA's final determination and environmental approvals for the federal actions necessary to implement the CEP at PHL. The ROD also identifies Alternative A (the Project) as FAA's selected alternative for implementation. The purpose of the CEP is to enhance airport capacity in order to accommodate current and future aviation demand in the Philadelphia Metropolitan Area during all weather conditions. The Environmental Protection Agency (EPA) published a notice of availability of the Final EIS in the Federal Register on August 27, 2010 (75 FR 52736). The Final EIS was prepared in compliance with the National Environmental Policy Act of 1969 (NEPA), [42 U.S. C. 4321, et seq.], the implementing regulations of the Council on Environmental Quality (CEQ) [40 CFR parts 1500-1508], and FAA directives [Order 1050.1E and Order 505.4B]. The Final EIS presented three alternatives; the No Action and two on-airport construction alternatives (Alternatives A and B), and identified Alternative A the preferred alternative. The FAA received comments on the Final EIS and these comments, along with FAA's responses, are included in Attachment A of the ROD.

The Project will have five runways connected by a redesigned and more efficient taxiway system than the No-Action Alternative. Runway 17-35 will remain as a 6,500-foot crosswind runway. Runway 8-26 will be extended 2,000 feet to the east, for a total length of 7,000 feet. This runway will continue to be unidirectional, serving westbound arrivals and eastbound departures. The Runway 8-26 eastern arrival threshold will be raised by approximately 55 feet in order to clear obstructions. Runway 8-26 will have an Engineered Materials Arresting System (EMAS) constructed at the east end of the runway. Runway 9L-27R will remain at its current length (9,500 feet) and location. It will support westbound departures in west flow, and eastbound arrivals in east flow. Runway 9R-27L will be extended to the east by 1,500 feet, to a total length of 12,000 feet. This runway will be renamed Runway 9C-27C. It will function primarily as an arrival runway during west flow operations and a departure runway during east flow. A new runway, Runway 9R-27L, 1,600 feet south of Runway 9C-27C will be constructed. This runway will be 9,103 feet long by 150 feet wide and will serve primarily as a departure runway in west flow and an arrival runway in east flow. Runway 9R-27L will have EMAS installed on its west end to reduce impacts to the Delaware River. Constructing this runway will affect the Delaware River. The approach lighting systems for proposed Runways 9R and 9L will be upgraded to meet CAT II/III approach requirements. The new approach light system for Runway 9R will be in the Delaware River, extending 1,700 feet from the limit of fill, and will be a pile-supported structure. The existing approach lighting systems for Runways 26 and 27C will be relocated based on the proposed threshold locations for each runway. All existing navigational aids will be relocated as necessary or new aids installed as required to meet the approach criteria for the particular runway end. The Airport Surveillance Radar (ASR-9) and the Precision Runway Monitor (PRM) south of Runway 9R-27L will be relocated as necessary.

The Project will upgrade and reconfigure the existing terminal complex in its existing location. It will add a new commuter terminal east of Runway 17-35. The total terminal complex will consist of eight concourses with 145 to 150 gates and approximately 3.6 million square feet. The existing terminal circulation, recirculation, and access will remain as it is now with minor shifts in horizontal and vertical alignments. An automated people mover (APM) will be constructed to transport passengers between terminals and parking facilities. The existing SEPTA rail line will continue to provide access to the terminals from outside the Airport and will interface directly with the APM system. The Project will enlarge the existing parking garages and construct a new centralized ground transportation center. The Project will also relocate or expand many of the other Airport facilities, including cargo, general aviation (corporate), maintenance, fuel, training facilities, and deicing facilities. The FAA's Air Traffic Control Tower (ATCT) will also be relocated. Service roadways and facilities will be reconstructed as needed.

In order to accommodate the Airport reconfiguration, several off-airport facilities and properties must be acquired and, in some cases, relocated. The UPS facility south of the Airport will be relocated to a new site in Tinicum. Hog Island Road will be closed and the freight railroad serving the USACE Fort Mifflin Dredge Disposal Facility will be relocated. Part of the Dredge Disposal Facility will be relocated north. The Sunoco Hog Island Wharf will be closed and its functions replaced by extending the existing Sunoco Fort Mifflin Pier to the west.

The Project will accommodate all forecasted operations with annualized average delays of 5.2 minutes in 2025 and 8.4 minutes in 2030. The Project is estimated to cost $5.2 billion and take approximately 13 years to complete. With mitigation, significant environmental impacts can be avoided or minimized.

The FAA is granting approval to amend the airport layout plan (ALP) with the conditions noted in Section 11 of the ROD, Conditions of Project Approval, for the incorporation of all the physical elements associated with selected alternative in the ROD, Alternative A, as summarized in Section 2 of the ROD and approval to proceed with processing an application for federal funding of those development items qualifying for financial aid under the Airports Improvement Program, [49 U.S.C. 47106] as well as applications to impose and use Passenger Facility Charges, [49 U.S.C. 40117].

A copy of the ROD can be found on the FAA Web site at: http://www.faa.gov/airports/environmental/records_decision/. The ROD and information on the Project is available for electronic review and/or download on the on the project Web site at: http://www.phl-cep-eis.com. Hard copies of the ROD can be obtained by contacting FAA.

FOR FURTHER INFORMATION CONTACT: Susan McDonald, Environmental Protection Specialist, Federal Aviation Administration, Harrisburg Airports District Office, 3905 Hartzdale Drive, Suite 508, Camp Hill, PA 17011, Telephone (717) 730-2841.

Issued in Camp Hill, Pennsylvania, December 22, 2010.
Lori Pagnanelli,
Manager, Harrisburg Airports District Office.

[FR Doc. 2010-33223 Filed 1-3-11; 8:45 am]

BILLING CODE 4910-13-P